DEPARTMENT OF ENERGY

Federal Energy Regulatory Commission

[Project No. 3063-022]

Gelardin Bruner Cott Inc.; Notice of Application for After the Fact Transfer of License and Soliciting Comments, Motions To Intervene, and Protests

On March 29, 2019, Gelardin Bruner Cott Inc. (GBC) (licensee) filed an application for an after-the-fact transfer of license for the Central Falls Hydroelectric Project (project) No. 3063, located on the Blackstone River in Central Falls, Providence County, Rhode Island.

On August 28, 1981, the Commission issued a minor license to GBC, with three principal officers: Robert Gelardin, Simone Bruner, and Leland Cott. Prior to license issuance on June 15, 1981, GBC formed a limited partnership, Blackstone Hydro Associates (BHA), to acquire the necessary real property interests and rights for project construction and maintenance. Subsequent to license issuance, project's construction and maintenance was achieved by BHA. The licensee has recently learned during the relicensing of the project that the license for the project had not been formally changed from GBC to BHA. The licensee seeks an after-the-fact approval of the transfer of license.

Applicant's Contact: For transferor/transferee: Mr. Robert Leahly, BHA, 130 Prospect Street, Cambridge, MA 02139, Phone: 617-491-2320, Email: bleahly@theshorelinecorp.com.

FERC Contact: Kim A. Nguyen, (202) 502-6105, kim.nguyen@ferc.gov.

Deadline for filing comments, motions to intervene, and protests: 30 days from the date that the Commission issues this notice. The Commission strongly encourages electronic filing. Please file comments, motions to intervene, and protests using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE, Washington, DC 20426. The first page of any filing should include docket number P-3063-022.

Dated: August 8, 2019.
Kimberly D. Bose,
Secretary.

[FR Doc. 2019-17395 Filed 8-13-19; 8:45 am]

BILLING CODE 6717-01-P